DEPARTMENT OF COMMERCE

International Trade Administration

[A-570-900]

Diamond Sawblades and Parts Thereof From the People's Republic of China: Initiation of Antidumping Duty New Shipper Review

AGENCY: Import Administration, International Trade Administration, Department of Commerce.

DATES: Effective Date: January 6, 2011.

SUMMARY: The Department of Commerce (“Department”) has determined that a request for a new shipper review (“NSR”) of the antidumping duty order on diamond sawblades and parts thereof (“diamond sawblades”) from the People's Republic of China (“PRC”), received on November 30, 2010, meets the statutory and regulatory requirements for initiation. The period of review (“POR”) for this NSR is January 23, 2009 through October 31, 2010. In this instance, Hanson Diamond Tools (Danyang) Co., Ltd. (“Hanson”) made a sale of subject merchandise during the POR as specified by the Department's regulations.

FOR FURTHER INFORMATION CONTACT: Ricardo Martinez, AD/CVD Operations, Office 9, Import Administration, International Trade Administration, U.S. Department of Commerce, 14th Street and Constitution Avenue, NW., Washington, DC 20230; telephone: 202-482-4532.

SUPPLEMENTARY INFORMATION:

Background

The antidumping duty order on diamond sawblades from the PRC was published in the Federal Register on November 4, 2009. See Diamond Sawblades and Parts Thereof From the People's Republic of China and the Republic of Korea: Antidumping Duty Orders, 74 FR 57145 (November 4, 2009) (“Antidumping Duty Order”). On November 30, 2010, pursuant to section 751(a)(2)(B)(i) of the Tariff Act of 1930, as amended (“Act”), the Department received an NSR request from Hanson. Hanson's request was timely made on November 30, 2010, November being the annual anniversary month of the Antidumping Duty Order. Hanson certified that it is both the producer and exporter of the subject merchandise upon which the request was based. Hanson also submitted a public version of its request, which adequately summarized proprietary information and provided explanations as to why certain proprietary information is not capable of summarization.

Pursuant to section 751(a)(2)(B)(i)(I) of the Act and 19 CFR 351.214(b)(2)(i), Hanson certified that it did not export subject merchandise to the United States during the period of investigation (“POI”). In addition, pursuant to section 751(a)(2)(B)(i)(II) of the Act and 19 CFR 351.214(b)(2)(iii)(A), Hanson certified that, since the initiation of the investigation, it has never been affiliated with any Chinese exporter or producer who exported subject merchandise to the United States during the POI, including those respondents not individually examined during the POI. As required by 19 CFR 351.214(b)(2)(iii)(B), Hanson also certified that its export activities were not controlled by the central government of the PRC.

In addition to the certifications described above, pursuant to 19 CFR 351.214(b)(2)(iv)(A), (B) and (C), Hanson submitted documentation establishing the following: (1) The date on which Hanson first shipped subject merchandise for export to the United States; (2) the volume of its first shipment; and (3) the date of its first sale to an unaffiliated customer in the United States.

Period of Review

In accordance with 19 CFR 351.214(g)(1)(ii)(A), the POR for this NSR is January 23, 2009, through October 31, 2010.¹ For purposes of initiation, the Department accepts the contract dated within the POR as evidence that Hanson had a sale to the United States during the POR. However, the Department will consider further the proper date in the context of this NSR and whether that sale occurred during the POR.

¹ The POR begins January 23, 2009, because the suspension of liquidation began on January 23, 2009. See 19 CFR 351.214(g)(1)(ii)(A).

Initiation of New Shipper Reviews

Pursuant to section 751(a)(2)(B) of the Act and 19 CFR 351.214(d)(1), we find that Hanson meets the threshold requirements for initiation of an NSR for the shipment of diamond sawblades from the PRC produced and exported by Hanson. See “Memorandum to The File from Ricardo Martinez, Case Analyst, Initiation of AD New Shipper Review: Certain Diamond Sawblades and Parts Thereof from the People's Republic of China (A-570-900),” dated concurrently with this notice.

The Department intends to issue the preliminary results of this NSR no later than 180 days from the date of initiation, and the final results no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Hanson, which will include a section requesting information with regard to Hanson's export activities for separate rates purposes. The review will proceed if the response provides sufficient indication that Hanson is not subject to either de jure or de facto government control with respect to its exports of subject merchandise.

We will instruct U.S. Customs and Border Protection to allow, at the option of the importer, the posting, until the completion of the review, of a bond or security in lieu of a cash deposit for each entry of the subject merchandise from Hanson in accordance with section 751(a)(2)(B)(iii) of the Act and 19 CFR 351.214(e). Because Hanson certified that it both produced and exported the subject merchandise, the sale of which is the basis for this NSR request, we will apply the bonding privilege to Hanson only for subject merchandise which Hanson both produced and exported.

Interested parties requiring access to proprietary information in this NSR should submit applications for disclosure under administrative protective order in accordance with 19 CFR 351.305 and 351.306. This initiation and notice are in accordance with section 751(a)(2)(B) of the Act and 19 CFR 351.214 and 351.221(c)(1)(i).

Dated: December 30, 2010.
Edward C. Yang,
Acting Deputy Assistant Secretary for Antidumping and Countervailing Duty Operations.

[FR Doc. 2011-63 Filed 1-5-11; 8:45 am]

BILLING CODE 3510-DS-P